DEPARTMENT OF TRANSPORTATION

Federal Aviation Administration

[Summary Notice No. PE-2005-9]

Petitions for Exemption; Summary of Petitions Received

AGENCY: Federal Aviation Administration (FAA), DOT.

ACTION: Notice of petition for exemption received.

SUMMARY: Pursuant to FAA's rulemaking provisions governing the application, processing, and disposition of petitions for exemption, part 11 of Title 14, Code of Federal Regulations (14 CFR), this notice contains a summary of a certain petition seeking relief from specified requirements of 14 CFR. The purpose of this notice is to improve the public's awareness of and participation in this aspect of FAA's regulatory activities. Neither publication of this notice nor the inclusion or omission of information in the summary is intended to affect the legal status of any petition or its final disposition.

DATES: Comments on petitions received must identify the petition docket number involved and must be received on or before February 23, 2005.

ADDRESSES: You may submit comments on DMS Docket Number FAA-2005-20139 by any of the following methods:

• Web site: http://dms.dot.gov Follow the instructions for submitting comments on the DOT electronic docket site.

• Fax comments to DMS at 2-202-493-2251.

• Mail comments to: Docket Management Facility, U.S. Department of Transportation, 400 Seventh Street, SW., Nassif Building, Room PL-401, Washington, DC 20590-0001.

• Hand Deliver comments to: Room PL-401 on the plaza level of the Nassif Building, 400 Seventh Street, SW., Washington, DC, between 9 a.m. and 5 p.m., Monday through Friday, except Federal holidays.

• Docket: For access to the docket to read background documents or comments received, go to http://dms.dot at any time or to Room PL-401 on the plaza level of the Nassif Building, 400 Seventh Street, SW., Washington, DC, between 9 a.m. and 5 p.m., Monday through Friday, except Federal holidays.

FOR FURTHER INFORMATION CONTACT: Madeleine Kolb (425-227-1134), Transport Airplane Directorate (ANM-113), Federal Aviation Administration, 1601 Lind Ave., SW., Renton, WA 98055-4056; or John Linsenmeyer (202-267-5174), Office of Rulemaking (ARM-1), Federal Aviation Administration, 800 Independence Avenue, SW., Washington, DC 20591.

This notice is published pursuant to 14 CFR 11.85 and 11.91.

Issued in Washington, DC, on January 28, 2005.
Anthony F. Fazio,
Director, Office of Rulemaking.

Petition for Exemption

Docket No.: FAA-2005-20139.

Petitioner: Airbus.

Section of 14 CFR Affected: 14 CFR 25.841(a)(2)(i) and (ii) and (3).

Description of Relief Sought: To permit certification of the Airbus Model A380 airplane without meeting requirements of 14 CFR 25.841 (a)(2)(i) and (ii) and (3), Amendment 25-87, pertaining to cabin decompression following certain extremely rare uncontained engine rotor failures.

[FR Doc. 05-2023 Filed 2-2-05; 8:45 am]

BILLING CODE 4910-13-P